NUCLEAR REGULATORY COMMISSION

[NRC-2015-0001]

Sunshine Act Meetings

TIME AND DATE: Week of November 2, 2015.

PLACE: Commissioners' Conference Room, 11555 Rockville Pike, Rockville, Maryland.

STATUS: Public.

MATTERS TO BE CONSIDERED:

Week of November 9, 2015—Tentative

Monday, November 9, 2015

2:45 p.m. Affirmation Session (Public Meeting) (Tentative)

a. Pacific Gas and Electric Company (Diablo Canyon Nuclear Power Plant), Friends of the Earth's Appeal of LBP-15-6 (Tentative)

b. Entergy Nuclear Operations, Inc. (Palisades Nuclear Plant)—Appeal of LBP-15-17 (Tentative)

c. Entergy Nuclear Operations, Inc. (Palisades Nuclear Plant)—Appeal of LBP-15-20 (Tentative)

d. Entergy Nuclear Operations, Inc. (Indian Point Nuclear Generating Units 2 and 3)—Petition for Interlocutory Review of Atomic Safety and Licensing Board's July 20, 2015 Order (Denying New York Motion to Withdraw Proprietary Designation) (Tentative)

CONTACT PERSON FOR MORE INFORMATION: The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: November 2, 2015.
Denise McGovern,
Policy Coordinator, Office of the Secretary.

[FR Doc. 2015-28297 Filed 11-3-15; 11:15 am]

BILLING CODE 7590-01-P